DEPARTMENT OF HEALTH AND HUMAN SERVICES

Health Resources and Services Administration

Agency Information Collection Activities: Submission to OMB for Review and Approval; Public Comment Request: National Survey of Organ Donation Attitudes and Practices, OMB No. 0915-0290

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than June 21, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: National Survey of Organ Donation Attitudes and Practices, OMB No. 0915-0290—Revision.

Abstract: The overall purpose of this study is to conduct an independent multi-mode (web and telephone) survey of public opinion regarding various issues related to organ donation. The survey will measure public opinion on issues such as willingness to become an organ donor, financial incentives for donation, living donation, impediments to donation, and level of public knowledge about donation. Previous National Survey of Organ Donation Attitudes and Practices were conducted during 1993, 2005, 2012, and 2019. Similar to the 2019 survey, the goal is to complete 10,000 interviews with adults (18 years of age or older) nationwide. Specifically, this will include 1,000 equal-probability of selection method computer-assisted telephone interviewing (CATI) interviews, 1,000 ethnic oversamples CATI interviews, and a supplemental web panel of 8,000 respondents. The final sample will include 1,000 interviews each with Black or African Americans, Asian Americans, Hispanic/Latino Americans, and American Indian/Alaskan Natives, and a statistically sufficient sample for meaningful comparisons across demographic levels of age group, education, and income groups. A total sample of 10,000 is necessary to achieve sufficiently large subgroups for statistical analysis across demographic groups.

A 60-day notice published in the Federal Register on January 18, 2024, vol. 89, No. 12; pp. 3409-3410. There were no public comments.

Need and Proposed Use of the Information: The Division of Transplantation, within the Health Systems Bureau of HRSA at the Department of Health and Human Services, is the primary federal entity responsible for oversight of the solid organ and blood stem cell transplant systems in the United States and for initiatives to increase organ donor registration and donation. Sponsorship of a national survey on the American public's donation attitudes and practices is one of the services that Division of Transplantation provides for the larger donation community, consistent with its legal authority to establish a public education and awareness program (Section 377A of the Public Health Service Act, 42 U.S.C. 274f-1).

Patients in need of organ transplantation in the United States face a longstanding critical shortage of organs. Approximately 103,000 Americans were on the waiting list for transplantation by the end of 2022, but only 42,000 transplants were performed, which only meets two-fifths of the national need. While this represents an increase from the number of transplants performed in 2021, the organ shortage remains in the United States. Understanding public attitudes about organ donation and how the attitudes change over time is critical to addressing organ shortage through public awareness and education efforts.

The information from this survey will facilitate appropriate tailoring and targeting of donation outreach messages and strategies and provide an overall assessment of the impact of previous outreach messages and strategies. The data will also inform the development of policy related to organ donation and transplantation.

Likely Respondents: A nationally representative sample of adults over the age of 18 with a higher number of responses from populations of interest such as racial-ethnic minorities, including Black or African American, Asian American, American Indian/Alaskan Native, and Hispanic/Latino American respondents, as well as respondents of all age groups and education levels.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
The National Survey of Organ Donation Attitudes and Practices—Telephone (English and Spanish versions) | 2,000 | 1 | 2,000 | 0.37 | 740
The National Survey of Organ Donation Attitudes and Practices—Web (English and Spanish versions) | 8,000 | 1 | 8,000 | 0.27 | 2,160
Total | 10,000 |  |  |  | 2,900

Amy P. McNulty,
Deputy Director, Executive Secretariat.

[FR Doc. 2024-11246 Filed 5-21-24; 8:45 am]

BILLING CODE 4165-15-P